DEPARTMENT OF TRANSPORTATION

Federal Aviation Administration

14 CFR Part 39

[Docket No. 2000-CE-67-AD]

RIN 2120-AA64

Airworthiness Directives; PIAGGIO AERO INDUSTRIES S.p.A Model P-180 Airplanes

AGENCY: Federal Aviation Administration, DOT.

ACTION: Notice of proposed rulemaking (NPRM).

SUMMARY: This document proposes to adopt a new airworthiness directive (AD) that would apply to all PIAGGIO AERO INDUSTRIES S.p.A (PIAGGIO) Model P-180 airplanes. The proposed AD would require you to inspect the flap actuators for incorrect maneuvering and evidence of grease and oxidation around the gear box (actuators with any of these conditions are referred to as problem actuators). If you find a problem actuator, the proposed AD would require you to immediately replace the flap actuators with improved design actuators or repair the existing actuators to the improved design level. If you do not find a problem actuator, the proposed AD would require you to repeat the inspection until the installed actuators are of improved design. The proposed AD is the result of mandatory continuing airworthiness information (MCAI) issued by the airworthiness authority for Italy. The actions specified by the proposed AD are intended to detect and remove problem flap actuators from service. Continued operation with problem actuators could result in flap system failure, with consequent reduction in, or loss of, control of the airplane.

DATES: The Federal Aviation Administration (FAA) must receive any comments on this proposed rule on or before February 3, 2001.

ADDRESSES: Submit comments in triplicate to FAA, Central Region, Office of the Regional Counsel, Attention: Rules Docket No. 2000-CE-67-AD-AD, 901 Locust, Room 506, Kansas City, Missouri 64106. Comments may be inspected at this location between 8 a.m. and 4 p.m., Monday through Friday, holidays excepted.

Service information that applies to the proposed AD may be obtained from Piaggio Aero Industries S.p.A, Via Cibrario 4, 16154 Genoa, Italy. This information also may be examined at the Rules Docket at the address above.

FOR FURTHER INFORMATION CONTACT: Roman Gabrys, Aerospace Engineer, FAA, Small Airplane Directorate, 901 Locust, Room 301, Kansas City, Missouri 64106; telephone: (816) 329-4141; facsimile: (816) 329-4090.

SUPPLEMENTARY INFORMATION:

Comments Invited

How do I comment on the proposed AD? The FAA invites comments on this proposed rule. You may submit whatever written data, views, or arguments you choose. You need to include the rule's docket number and submit your comments in triplicate to the address specified under the caption ADDRESSES. The FAA will consider all comments received on or before the closing date. We may amend the proposed rule in light of comments received. Factual information that supports your ideas and suggestions is extremely helpful in evaluating the effectiveness of the proposed AD action and determining whether we need to take additional rulemaking action.

Are there any specific portions of the proposed AD I should pay attention to? The FAA specifically invites comments on the overall regulatory, economic, environmental, and energy aspects of the proposed rule that might suggest a need to modify the rule. You may examine all comments we receive before and after the closing date of the rule in the Rules Docket. We will file a report in the Rules Docket that summarizes each FAA contact with the public that concerns the substantive parts of the proposed AD.

We are re-examining the writing style we currently use in regulatory documents, in response to the Presidential memorandum of June 1, 1998. That memorandum requires federal agencies to communicate more clearly with the public. We are interested in your comments on whether the style of this document is clearer, and any other suggestions you might have to improve the clarity of FAA communications that affect you. You can get more information about the Presidential memorandum and the plain language initiative at http://www.plainlanguage.gov.

How can I be sure FAA receives my comment? If you want us to acknowledge the receipt of your comments, you must include a self-addressed, stamped postcard. On the postcard, write “Comments to Docket No. 2000-CE-67-AD.” We will date stamp and mail the postcard back to you.

Discussion

What events have caused this proposed AD? The Ente Nazionale per l' Aviazione Civile (ENAC), which is the airworthiness authority for Italy, recently notified FAA that an unsafe condition may exist on all PIAGGIO Model P-180 airplanes. The ENAC reports incidents of malfunctions of the flap actuators. Investigation of these incidents reveals problems inside the gearbox of the outboard flap actuators. Investigation results indicate incorrect maneuvering of the flap system and evidence of grease and oxidation around the gear box.

What are the consequences if the condition is not corrected? Continued operation with problem actuators could result in flap system failure, with consequent reduction in, or loss of, control of the airplane.

Is there service information that applies to this subject? PIAGGIO has issued Mandatory Service Bulletin No. SB-80-0120, Original Issue: July 20, 2000.

What are the provisions of this service bulletin? The service bulletin:

—Includes procedures for inspecting the flap actuators for incorrect maneuvering and evidence of grease and oxidation around the gear box (actuators with any of these conditions are referred to as problem actuators);

—Specifies replacing the flap actuators with improved design actuators in accordance with the instructions in the maintenance manual; and

—Specifies repairing the existing actuators to the improved design level in accordance with instructions received from Piaggio.

What action did ENAC take? The ENAC classified this service bulletin as mandatory and issued Italian AD Number N2000-392, dated August 7, 2000, in order to assure the continued airworthiness of these airplanes in Italy.

Was this in accordance with the bilateral airworthiness agreement? These airplane models are manufactured in Italy and are type certificated for operation in the United States under the provisions of section 21.29 of the Federal Aviation Regulations (14 CFR 21.29) and the applicable bilateral airworthiness agreement.

Pursuant to this bilateral airworthiness agreement, the ENAC has kept FAA informed of the situation described above.

The FAA's Determination and an Explanation of the Provisions of the Proposed AD

What has FAA decided? The FAA has examined the findings of the ENAC; reviewed all available information, including the service information referenced above; and determined that:

—The unsafe condition referenced in this document exists or could develop on other PIAGGIO Model P-180 airplanes of the same type design;

—The actions specified in the previously-referenced service information should be accomplished on the affected airplanes; and

—AD action should be taken in order to correct this unsafe condition.

What would the proposed AD require? This proposed AD would require you to:

—Inspect the flap actuators for incorrect maneuvering and evidence of grease and oxidation around the gear box (actuators with any of these conditions are referred to as problem actuators);

—If you find a problem actuator, immediately replace the flap actuators with improved design actuators or repair the existing actuators to the improved design level; and

—If you do not find a problem actuator, repeat the inspection until you install improved design flap actuators.

Cost Impact

How many airplanes would the proposed AD impact? We estimate that the proposed AD affects 11 airplanes in the U.S. registry.

What would be the cost impact of the proposed AD on owners/operators of the affected airplanes? We estimate the following costs to accomplish the proposed inspection:

Labor cost | Parts cost | Total cost per airplane | Total cost on operators
1 workhour × $60 per hour = $60 | No parts required for the inspection | $60 | $660

We estimate the following costs to accomplish any necessary replacements that would be required based on the results of the proposed inspection. We have no way of determining the number of airplanes that may need such repair/replacement:

Labor cost | Parts cost | Total cost per airplane
32 workhours × $60 per hour = $1,920 | $8,000 per airplane | $9,920

Regulatory Impact

Would this proposed AD impact various entities? The regulations proposed herein would not have a substantial direct effect on the States, on the relationship between the national government and the States, or on the distribution of power and responsibilities among the various levels of government. Therefore, it is determined that this proposed rule would not have federalism implications under Executive Order 13132.

Would this proposed AD involve a significant rule or regulatory action? For the reasons discussed above, I certify that this proposed action (1) Is not a “significant regulatory action” under Executive Order 12866; (2) is not a “significant rule” under DOT Regulatory Policies and Procedures (44 FR 11034, February 26, 1979); and (3) if promulgated, will not have a significant economic impact, positive or negative, on a substantial number of small entities under the criteria of the Regulatory Flexibility Act. A copy of the draft regulatory evaluation prepared for this action has been placed in the Rules Docket. A copy of it may be obtained by contacting the Rules Docket at the location provided under the caption ADDRESSES.

List of Subjects in 14 CFR Part 39

Air transportation, Aircraft, Aviation safety, Safety.

The Proposed Amendment

Accordingly, under the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new airworthiness directive (AD) to read as follows:

Piaggio Aero Industries S.P.A.: Docket No. 2000-CE-67-AD.

(a) What airplanes are affected by this AD? This AD affects Model P-180 airplanes, all serial numbers, that are certificated in any category.

(b) Who must comply with this AD? Anyone who wishes to operate any of the above airplanes must comply with this AD.

(c) What problem does this AD address? The actions specified by this AD are intended to detect and remove problem flap actuators from service. Continued operation with problem actuators could result in flap system failure, with consequent reduction in, or loss of, control of the airplane.

(d) What actions must I accomplish to address this problem? To address this problem, you must accomplish the following:

Actions | Compliance | Procedures
(1) Inspect the flap actuators for incorrect maneuvering and evidence of grease and oxidation around the gear box (actuators with any of these conditions are referred to as problem actuators) | Upon accumulating 600 hours time-in-service (TIS) on the flap actuators or within the next 100 hours TIS after the effective date of this Ad, whichever occurs later | In accordance with the ACCOMPLISHMENT INSTRUCTIONS section of Mandatory Service Bulletin No. SB-80-0120, Original Issue: July 20, 2000.
(2) If you do not find any problem actuators, repeat the inspection until you have either: (i) replaced all flap actuators with part number (P/N) C154183-1 and C154184-1 (or FAA-approved equivalent part numbers) actuators; or (ii) repaired or modified the P/N C132277-3 and C132277-4 (or FAA-approved equivalent part numbers) to the P/N C154183-1 and C154184-1 design level | Within 100 hours TIS after the inspection required in paragraph (d)(1) of this AD and thereafter at intervals not to exceed 100 hours TIS | Accomplish the replacement in accordance with the instructions in the maintenance manual. Accomplish the repair or modification in accordance with instructions received from Piaggio at the address given in paragraph (h) of this AD.
(3) If you find problem actuators during any inspection required by this AD, immediately replace the flap actuators with P/N C154183-1 and C154184-1 (or FAA-approved equivalent part numbers); or repair to the P/N C154183-1 and C154184-1 design level | Prior to further flight after the inspection where you find a problem actuator | Accomplish the replacement in accordance with the instructions in the maintenance manual. Accomplish the repair or modification in accordance with instructions received from Piaggio at the address given in paragraph (h) of this AD.
(4) Only install flap actuators that are one of the following: | As of the effective date of this AD | Not applicable.
(i) P/N C154183-1 and C154184-1 (or FAA-approved equivalent part numbers); or
(ii) P/N C132277-3 and C132277-4 (or FAA-approved equivalent part numbers) that have been repaired or modified to the P/N C154183-1 and C154184-1 design level

(e) Can I comply with this AD in any other way? You may use an alternative method of compliance or adjust the compliance time if:

(1) Your alternative method of compliance provides an equivalent level of safety; and

(2) The Manager, Small Airplane Directorate, approves your alternative. Submit your request through an FAA Principal Maintenance Inspector, who may add comments and then send it to the Manager, Small Airplane Directorate.

Note 1: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Roman Gabrys, Aerospace Engineer, FAA, Small Airplane Directorate, 901 Locust, Room 301, Kansas City, Missouri 64106; telephone: (816) 329-4141; facsimile: (816) 329-4090.

(g) What if I need to fly the airplane to another location to comply with this AD? The FAA can issue a special flight permit under sections 21.197 and 21.199 of the Federal Aviation Regulations (14 CFR 21.197 and 21.199) to operate your airplane to a location where you can accomplish the requirements of this AD.

(h) How do I get copies of the documents referenced in this AD? You may obtain copies of the documents referenced in this AD from Piaggio Aero Industries S.p.A, Via Cibrario 4, 16154 Genoa, Italy. You may examine these documents at FAA, Central Region, Office of the Regional Counsel, 901 Locust, Room 506, Kansas City, Missouri 64106.

Note 2: The subject of this AD is addressed in Italian AD N2000-392, dated August 7, 2000.

Issued in Kansas City, Missouri, on December 21, 2000.
Michael Gallagher,
Manager, Small Airplane Directorate, Aircraft Certification Service.

[FR Doc. 00-33404 Filed 12-29-00; 8:45 am]

BILLING CODE 4910-13-P